NATIONAL FOUNDATION ON THE ARTS AND THE HUMANITIES

Institute of Museum and Library Services

Submission for OMB Review, Comment Request, Proposed Collection: IMLS Collections Assessment for Preservation Forms

AGENCY: Institute of Museum and Library Services, National Foundation on the Arts and the Humanities.

ACTION: Submission for OMB Review, comment request.

SUMMARY: The Institute of Museum and Library Services (IMLS) announces the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. This notice proposes the clearance of seven IMLS Collections Assessment for Preservation program forms. A copy of the proposed information collection request can be obtained by contacting the individual listed below in the FOR FURTHER INFORMATION section of this notice.

DATES: Written comments must be submitted to the office listed in the ADDRESSES section below on or before May 17, 2024.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

ADDRESSES: Written comments and recommendations for proposed information collection requests should be sent within 30 days of publication of this notice to www.reginfo.gov/public/do/PRAMain. Find this particular information collection request by selecting “Institute of Museum and Library Services” under “Currently Under Review;” then check “Only Show ICR for Public Comment” checkbox. Once you have found this information collection request, select “Comment,” and enter or upload your comment and information. Alternatively, please mail your written comments to Office of Information and Regulatory Affairs, Attn.: OMB Desk Officer for Education, Office of Management and Budget, Room 10235, Washington, DC 20503, or call (202) 395-7316.

FOR FURTHER INFORMATION CONTACT: Sarah Glass, Senior Program Officer, Office of Museum Services, Institute of Museum and Library Services, 955 L'Enfant Plaza North SW, Suite 4000, Washington DC 20024-2135. Ms. Glass can be reached by telephone at 202-653-4668, by email at sglass@imls.gov. Persons who are deaf or hard of hearing (TTY users) may contact IMLS at 202-207-7858 via 711 for TTY-Based Telecommunications Relay Service.

SUPPLEMENTARY INFORMATION: IMLS is the primary source of Federal support for the nation's libraries and museums. We advance, support, and empower America's museums, libraries, and related organizations through grant making, research, and policy development. Our vision is a nation where museums and libraries work together to work together to transform the lives of individuals and communities. To learn more, visit www.imls.gov.

Current Actions: This notice proposes the clearance of Collections Assessment for Preservation Forms. The 60-day Notice was published in the Federal Register on February 7, 2024 (89 FR 8457) (Document Number 2024-02432). The agency received no comments under this notice.

The Collections Assessment for Preservation (CAP) program allows up to two qualified conservators, who serve as assessors, to study all a museum's collections, buildings and building systems, as well as its policies and procedures relating to collections care. Participants who complete the program receive a report prepared by the assessor(s) with prioritized recommendations to improve collections care.

The purpose of this Notice is to solicit comments concerning the three-year approval of the seven forms necessary to support the administration and implementation of the IMLS Collections Assessment for Preservation (CAP) program. These are Application Forms to collect information about museums that wish to be considered for participation in the program; an Assessor Application Form to collect information necessary to determine whether potential assessors have sufficient qualifications to participate in the program; a Site Questionnaire to provide more detailed information about a museum to prepare for its assessment once it is accepted for participation in the program; an Application Feedback Form for museums to share information about how they heard about the program and to provide feedback about the application process; an Assessor Feedback Form for assessors to share their experiences with the CAP assessment; a Participant Feedback Form to help IMLS and the program administrator gain a better understanding of the experience of museums after participating in the program and to help improve the program for future years; and a Follow-Up Survey for CAP participants to share their longer-term experiences as a result of program participation to help IMLS and the program administrator make improvements over time.

These forms are used by the administrator of the CAP program and are necessary to support the management of the program and ongoing improvements to the services it provides. These are web-based forms that can be completed online via application software and SurveyMonkey, allowing faster response and reducing participant burden. Paper versions of the forms can be made available for small museums that may have limited or no access to the necessary technology.

Each application cycle to the CAP program engages new participating museums, therefore requiring the use of the forms for every participant. Assessor Application Forms need only be filled out once by potential assessors who may participate in multiple application cycles. Assessor Feedback Forms are completed by each assessor each year.

Agency: Institute of Museum and Library Services.

Title: Collections Assessment for Preservation Forms.

OMB Control Number: 3137-0126.

Agency Number: 3137.

Affected Public: Museum professionals and professional conservators.

Total Number of Respondents: 710.

Frequency of Response: Once.

Average Hours per Response: 1.5.

Total Burden Hours: 1010.

Total Annualized Capital/Startup Costs: n/a.

Total Annual Cost Burden: $ 32,774.50.

Total Annual Federal Costs: $ 4,493.30.

Dated: April 11, 2024.
Suzanne Mbollo,
Grants Management Specialist, Institute of Museum and Library Services.

[FR Doc. 2024-08094 Filed 4-16-24; 8:45 am]

BILLING CODE 7036-01-P